DEPARTMENT OF LABOR

Employment and Training Administration

[TA-W-64,331]

Suez Energy Bio-Power, a Subsidiary of GDF Suez Energy North America, Formerly Known as Tractebel Power, Inc., Forest City, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on December 16, 2008, applicable to workers of Suez Energy Bio-Power, a subsidiary of GDF Suez Energy North America, Forest City, North Carolina. The Department's Notice of determination was published in the Federal Register on January 14, 2009 (74 FR 2136).

At the request of a firm official, the Department reviewed the certification for workers of the subject firm. Subject form workers provided steam used in the production of knit fabrics by Hanesbrands, Inc., Forest City, North Carolina, a firm with a currently TAA-certified worker group.

New information shows that some of the workers' wages are being reported under the State of North Carolina Unemployment Insurance (UI) tax accounts for Tractebel Power, Inc.

Accordingly, the Department is amending this certification to properly reflect this matter.

The intent of the Department's certification is to include all workers of the subject firm who were adversely affected by increased imports of articles like or directly competitive with the knit fabric produced by Hanesbrands, Inc., Forest City, North Carolina.

The amended notice applicable to TA-W-64,331 is hereby issued as follows:

“All workers of Suez Energy Bio-Power, a subsidiary of GDF Suez Energy North America, formerly known as Tractebel Power, Inc., Forest City, North Carolina, who became totally or partially separated from employment on or after October 30, 2007, through December 16, 2010, are eligible to apply for adjustment assistance under Section 223 of the Trade Act of 1974, and are also eligible to apply for alternative trade adjustment assistance under Section 246 of the Trade Act of 1974.”

Signed at Washington, DC, this 10th day of February 2009.
Linda G. Poole,
Certifying Officer, Division of Trade Adjustment Assistance.

[FR Doc. E9-3723 Filed 2-20-09; 8:45 am]

BILLING CODE 4510-FN-P